SMALL BUSINESS ADMINISTRATION

Disaster Declaration #10715, Alaska Disaster #AK-00010

AGENCY: U.S. Small Business Administration.

ACTION: Notice.

SUMMARY: This is a Notice of the Presidential declaration of a major disaster for Public Assistance Only for the State of ALASKA ( FEMA-1666-DR), dated 10/27/2006.

Incident: Hooper Bay Fire.

Incident Period: 08/03/2006 Through 08/04/2006.

Effective Date: 10/27/2006.

Physical Loan Application Deadline Date: 12/26/2006.

Addresses: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: Notice is hereby given that as a result of the President's major disaster declaration on 10/27/2006, Private Non-Profit organizations that provide essential services of a governmental nature may file disaster loan applications at the address listed above or other locally announced locations.

The following areas have been determined to be adversely affected by the disaster:

Primary Counties:

The City Of Hooper Bay Within The Lower Yukon Area.

The Interest Rates are:

| Percent
Other (Including Non-Profit Organizations) With Credit Available Elsewhere | 5.000
Businesses And Non-Profit Organizations Without Credit Available Elsewhere | 4.000

The number assigned to this disaster for physical damage is 10715.

(Catalog of Federal Domestic Assistance Number 59008)

Jane M. Pease,
Acting Associate Administrator for Disaster Assistance.

[FR Doc. E6-19711 Filed 11-21-06; 8:45 am]

BILLING CODE 8025-01-P